DEPARTMENT OF THE TREASURY

Internal Revenue Service

26 CFR Part 1

[REG-112339-19]

RIN 1545-BP42

Credit for Carbon Oxide Sequestration; Correction

AGENCY: Internal Revenue Service (IRS), Treasury.

ACTION: Correction to a notice of proposed rulemaking.

SUMMARY: This document contains a correction to a notice of proposed rulemaking that was published in the Federal Register on June 2, 2020. The proposed regulations regarding the credit for carbon oxide sequestration under section 45Q of the Internal Revenue Code (Code).

DATES: Written or electronic comments and requests for a public hearing are still being accepted and must be received by August 3, 2020.

ADDRESSES: Send submissions to Internal Revenue Service, CC:PA: LPD:PR (REG-112339-19), Room 5205, P.O. Box 7604, Ben Franklin Station, Washington, DC 20044. Submission of comments electronically is strongly suggested, as the ability to respond to mail may be delayed. It is recommended that comments and requests for a public hearing be submitted electronically via the Federal eRulemaking Portal at http://www.regulations.gov (IRS REG-112339-19).

FOR FURTHER INFORMATION CONTACT: Concerning the proposed regulations, Maggie Stehn of the Office of Associate Chief Counsel (Passthroughs & Special Industries) at (202) 317-6853; concerning submissions of comments and/or requests for a public hearing, Regina L. Johnson at (202) 317-5177 (not toll-free numbers).

SUPPLEMENTARY INFORMATION:

Background

The proposed regulations that are the subject of this correction are under section 45Q of the Internal Revenue Code.

Need for Correction

As published, the notice of proposed rulemaking (REG-112339-19) contains errors that needs to be corrected.

Correction of Publication

Accordingly, the notice of proposed rulemaking (REG-112339-19) that was the subject of FR Doc.2020-11907, published at 85 FR 34050 (June 2, 2020), is corrected as follows:

1. On page 34058, third column, the ninth line of the fourth paragraph, the language “date the” is corrected to read “date of”.

2. On page 34061, first column, the sixth line from the bottom from the first partial paragraph, the language “three years” is corrected to read “five years.”

3. On page 34062, first column, the eleventh through the twelfth lines of the first full paragraph, the language “section 45Q(f)(3)(B)” is corrected to read “new election”.

4. On page 34062, the first column, the fifth through the sixth lines from the bottom of the last paragraph, the language “after the date of issuance of this proposed regulation” is corrected to read “after June 2, 2020.”.

5. On page 34062, second column, the thirteenth through the fourteenth lines from the bottom of the first full paragraph, the language “before the date of issuance of this proposed regulation” is corrected to read “before June 2, 2020”.

6. On page 34062, third column, the sixth line from the bottom of the first full paragraph, the language “F Federal” is corrected to read “Federal”.

7. On page 34063, third column, the second line from the bottom of the first full paragraph, the language “serval” is corrected to read “several”.

Martin V. Franks,
Branch Chief, Publications and Regulations Branch, Legal Processing Division, Associate Chief Counsel (Procedure and Administration).

[FR Doc. 2020-14033 Filed 6-29-20; 8:45 am]

BILLING CODE 4830-01-P